DEPARTMENT OF HOMELAND SECURITY

Federal Emergency Management Agency

[Docket ID FEMA-2008-0022]

Criteria for Preparation and Evaluation of Radiological Emergency Response Plans and Preparedness in Support of Nuclear Power Plants; NUREG-0654/FEMA-REP-1/Rev.1 Supplement 4 and FEMA Radiological Emergency Preparedness Program Manual

AGENCY: Federal Emergency Management Agency, DHS.

ACTION: Notice of public meetings.

SUMMARY: The Federal Emergency Management Agency (FEMA) is announcing the dates, times, and locations of a series of public meetings that will be held, in conjunction with the Nuclear Regulatory Commission (NRC), to discuss several proposed policies and a NRC proposed rulemaking regarding onsite and offsite nuclear power plant preparedness.

DATES: See SUPPLEMENTARY INFORMATION section for meeting dates and times.

ADDRESSES: See SUPPLEMENTARY INFORMATION section for meeting locations and addresses.

You may submit comments on the proposed Supplement 4 and proposed REPP Manual, identified by Docket ID FEMA-2008-0022, by one of the following methods:

Federal eRulemaking Portal: http://www.regulations.gov. Follow the instructions for submitting comments.

E-mail: FEMA-POLICY@dhs.gov. Include “Docket ID FEMA-2008-0022” in the subject line of the message.

Fax: 703-483-2999.

Mail/Hand Delivery/Courier: Regulation & Policy Team, Office of Chief Counsel, Federal Emergency Management Agency, Room 835, 500 C Street, SW., Washington, DC 20472-3100.

Docket: For access to the docket to read background documents or comments received, go to the Federal eRulemaking Portal at http://www.regulations.gov, and search for Docket ID “FEMA-2008-0022”. Submitted comments may also be inspected at FEMA, Office of Chief Counsel, Room 835, 500 C Street, SW., Washington, DC 20472.

Privacy Act: Regardless of the method used for submitting comments or material, all submissions will be posted, without change, to the Federal eRulemaking Portal at http://www.regulations.gov, and will include any personal information you provide. Therefore, both statements made at the public meetings as well as written comments submitted are public. You may wish to read the Privacy Act notice that is available on the Privacy and Use Notice link on the Administration Navigation Bar of http://www.regulations.gov.

Teleconferencing: Interested members of the public unable to attend the meeting may participate by telephone via a toll-free teleconference. For details, please call the contact person listed below in the FOR FURTHER INFORMATION CONTACT section. Those interested in participating in this meeting by teleconference should call or e-mail the person listed below in the FOR FURTHER INFORMATION CONTACT section as soon as possible, but no later than 3 business days before each meeting date.

Webconferencing: Interested members of the public unable to attend the meeting may participate remotely on the internet. For details, please call the contact person listed below in the FOR FURTHER INFORMATION CONTACT section. Those interested in participating in this meeting by webconference should call or e-mail the person listed below in the FOR FURTHER INFORMATION CONTACT section as soon as possible, but no later than 3 business days before each meeting date.

FOR FURTHER INFORMATION CONTACT: Michelle Ralston, Emergency Management Specialist, Radiological Emergency Preparedness Branch, Technological Hazards Division, National Preparedness Directorate, Federal Emergency Management Agency; E-mail: michelle.ralston@dhs.gov; Phone: 202-212-2310.

SUPPLEMENTARY INFORMATION: These meetings will be conducted jointly by the Nuclear Regulatory Commission (NRC) and the Federal Emergency Management Agency (FEMA), and will address four separate documents that have been proposed by these two agencies to address emergency planning and preparedness for nuclear power plants. These documents address both onsite (the plants themselves) and offsite (State, local, and emergency responder) planning and preparedness. The NRC will be soliciting comments on its notice of proposed rulemaking entitled “Enhancements to Emergency Preparedness Regulations” (published at 74 FR 23254 on May 18, 2009) and “Interim Staff Guidance: Emergency Planning for Nuclear Power Plants” (a notice of availability was published at 74 FR 23221 on May 18, 2009). Both of these documents are available at http://www.regulations.gov/search/index.jsp (Docket ID NRC-2008-0122).

FEMA will be taking comments on the joint NRC/FEMA policy document entitled “Criteria for Preparation and Evaluation of Radiological Emergency Response Plans and Preparedness in Support of Nuclear Power Plants; NUREG-0654/FEMA-REP-1/Rev. 1 Supplement 4 (Supplement 4), and the “FEMA Radiological Emergency Preparedness Program Manual” (REPP Manual). On May 18, 2009, at 74 FR 23198, FEMA published a Federal Register Notice informing the public that FEMA is accepting comments on these documents. The documents are available online at http://www.regulations.gov/search/index.jsp (Docket ID FEMA-2008-0022).

NUREG-0654 is a joint NRC/FEMA policy document that contains the Evaluation Criteria that FEMA and the NRC use to determine compliance with the 16 Planning Standards that are located in FEMA's regulations at 44 CFR 350.5, and the NRC's regulations at 10 CFR part 50. The agencies use these Planning Standards, and associated Evaluation Criteria, to measure the adequacy of emergency preparedness plans of nuclear power plant owners and operators and the State, local, and Tribal jurisdictions in which they are sited.

Supplement 4 revises and provides additional offsite planning guidance for emergency preparedness programs at the Nation's nuclear power plants, including the establishment of backup means for alert and notification, and increased coordination between licensees and offsite responders. The REPP Manual provides additional guidance directed to State, local, and Tribal jurisdictions. The REPP Manual consolidates all of the FEMA Radiological Emergency Preparedness (REP) Program's many operative guidance and policy documents into one location, and provides additional guidance on the proposed changes in Supplement 4. The substance of FEMA's proposed policies aligns with changes proposed in both the NRC Notice of Proposed Rulemaking and Interim Staff Guidance.

The purpose of these public meetings is to (1) jointly introduce the proposed regulations and draft guidance related to enhancing emergency preparedness (EP) regulations, and introduce NRC and FEMA draft guidance documents jointly and to explain the alignment of these documents; (2) answer questions about the proposed rule and draft guidance documents and to describe the next steps in the rulemaking and guidance document processes; (3) ensure openness during the EP rulemaking and guidance document processes; (4) provide additional opportunities for public participation in the EP rulemaking and guidance document processes; and, (5) build positive relations, confidence, and trust in the rulemaking and guidance document processes.

Public Meeting Dates, Locations, and Times

1. Tuesday, June 2, 2009; King of Prussia, Pennsylvania; Meeting Location: Park Ridge Hotel and Conference Center, 480 North Gulph Road, King of Prussia, PA 19406; Phone: 610-337-1800; Times: 2 p.m.-4:30 p.m. and 7 p.m.-9:30 p.m. (EST).

2. Thursday, June 4, 2009; Atlanta, Georgia; Meeting Location: Georgian Terrace Hotel, 659 Peachtree Street NE., Atlanta, GA 30308; Phone: 800-651-2316; Times: 2 p.m.-4:30 p.m. and 7 p.m.-9:30 p.m. (EST).

3. Tuesday, June 9, 2009; Lisle, Illinois; Meeting Location: Hilton Lisle, 3003 Corporate West Drive, Lisle, IL 60532; Phone: 630-505-0900; Times: 2 p.m.-4:30 p.m. and 7 p.m.-9:30 p.m. (CST).

4. Thursday, June 11, 2009; Irving, Texas; Meeting Location: Westin Dallas Fort Worth Airport, 4545 West John Carpenter Freeway, Irving, TX 75063; Phone: 972-929-4500; Times: 2 p.m.-4:30 p.m. and 7 p.m.-9:30 p.m. (CST).

5. Tuesday, June 16, 2009; Estero, Florida; Meeting Location: Hyatt Place Coconut Point, 23120 Via Villagio, Estero, FL 33928; Phone: 239-495-1395; Times: 2 p.m.-4:30 p.m. and 7 p.m.-9:30 p.m. (EST).

6. Tuesday, June 23, 2009; Bethesda, Maryland; Meeting Location: Marriot Residence Inn, 7335 Wisconsin Avenue, Bethesda, MD 20814; Phone: 301-718-0200; Times: 2 p.m.-4:30 p.m. and 7 p.m.-9:30 p.m. (EST).

Please note that all meetings may close early if all business is finished.

Information on Services for Individuals With Disabilities

FEMA provides reasonable accommodations to individuals with disabilities where appropriate. If you need a reasonable accommodation to participate in this meeting (e.g., sign language), or need this meeting notice or other information from the meeting in another format, please notify the person listed above in the FOR FURTHER INFORMATION CONTACT section as soon as possible before each meeting date, so that arrangements can be made.

Dated: May 28, 2009.
David Garratt,
Deputy Acting Administrator, Federal Emergency Management Agency.

[FR Doc. E9-12817 Filed 6-1-09; 8:45 am]

BILLING CODE 9110-21-P